DEPARTMENT OF AGRICULTURE

Forest Service

Information Collection; Grey Towers Visitor Comment Card

AGENCY: Forest Service, USDA.

ACTION: Notice; request for comment.

SUMMARY: In accordance with the Paperwork Reduction Act of 1995, the Forest Service is seeking comments from all interested individuals and organizations on the new information collection, Grey Towers Visitor Comment Card.

DATES: Comments must be received in writing on or before February 3, 2009 to be assured of consideration. Comments received after that date will be considered to the extent practicable.

ADDRESSES: Comments concerning this notice should be addressed to Nicole Bernarsky, U.S. Forest Service, Grey Towers National Historical Site, P.O. Box 188, Milford, PA 18337.

Comments also may be submitted via facsimile to (570) 296-9675 or by e-mail to: nbernarsky@fs.fed.us.

The public may inspect comments received at Grey Towers National Historic Site during normal business hours. Visitors are encouraged to call ahead to (570) 296-9630 to facilitate entry to the building.

FOR FURTHER INFORMATION CONTACT: Nicole Bernarsky, Grey Towers National Historic Site, (570) 296-9630. Individuals who use telecommunication devices for the deaf (TDD) may call the Federal Relay Service (FRS) at 1-800-877-8339 twenty-four hours a day, every day of the year, including holidays.

SUPPLEMENTARY INFORMATION: Title: Grey Towers Visitor Comment Card.

OMB Number: 0596-New.

Type of Request: New.

Abstract: The Forest Service is proposing a new information collection for a visitor comment card to be used at Grey Towers. Located in Milford, Pennsylvania, Grey Towers was originally the summer estate of the James Pinchot family and later the primary home of Gifford Pinchot, America's first forester and founder of the USDA Forest Service. In 1963, Gifford Bryce Pinchot, son of Gifford and Cornelia, donated Grey Towers and 102 acres to the U.S. Forest Service, the Federal agency founded by his father and which now administers the site.

The U.S. Forest Service works with numerous partners to carry on the Pinchot legacy by delivering public programs, interpretive tours, and conservation education programs. Embracing a philosophy of preservation through use, Grey Towers, in partnership with the Pinchot Institute, also functions as an active conference center for conservation and natural resource issues. Today, conferences and seminars at the estate bring together a diversity of leading conservation and environmental thinkers to help guide the future of natural resource conservation.

Grey Towers strives to provide quality-based programs and events; and participant input is vital to achieving this goal. The proposed comment card provides a venue for those participating in meetings and educational activities at Grey Towers to provide feedback. The completion and subsequent evaluation of this form ensures that Grey Towers can continue to provide excellent service to all attendees. This information collection only covers the burden associated with responses collected from the public, though Federal employees also attend events held at the facility.

The information is collected on an 8.5 x 11 inch form provided to program and event participants at the conclusion of the activity. Forest Service employees overseeing Grey Towers programs and administration collect the information and use it to improve and enhance the programs and events. Information collected includes attendance, usage, and feedback from program attendees.

Without this information collection, the Forest Service would not have necessary information to enhance or improve offered programs. Programs or events would possibly have negative aspects of which the staff would be unaware, such as insufficient or unbeneficial delivery or content.

Estimate of Annual Burden: 10 minutes.

Type of Respondents: Individuals (event participants).

Estimated Annual Number of Respondents: 4,000.

Estimated Annual Number of Responses per Respondent: 1.

Estimated Total Annual Burden on Respondents: 667 hours.

Comment is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 20, 2008.
Robin L. Thompson,
Associate Deputy Chief, State and Private Forestry.

[FR Doc. E8-28837 Filed 12-4-08; 8:45 am]

BILLING CODE 3410-11-P